DEPARTMENT OF HOUSING AND URBAN DEVELOPMENT

[Docket No. FR-4558-N-04]

Mortgage Review Board: Administrative Actions—Clarification

AGENCY: Office of Assistant Secretary for Housing—Federal Housing Commissioner, HUD.

ACTION: Public Notice, Mortgagee Review Board, Clarification of Administrative Action.

SUMMARY: In compliance with Section 202(c) of the National Housing Act, notice is given of the cause and description of administrative actions taken by HUD's Mortgage Review Board against HUD-approved mortgagees. This notice provides clarification regarding the description of and the cause for administrative action against a HUD-approved mortgagee.

FOR FURTHER INFORMATION CONTACT: D. Jackson Kinkaid, Secretary to the Mortgage Review Board, Department of Housing and Urban Development, 451 Seventh Street, SW., Washington, DC 20410; telephone (202) 708-3041 extension 3574 (this is not a toll-free number). Hearing or speech-impaired persons may access this number via TTY by calling the toll-free Federal Information Relay Service at 1-800-877-8339.

SUPPLEMENTARY INFORMATION: Section 202(c) of the National Housing Act (added by Section 142 of the Department of Housing and Urban Development Reform Act of 1989, Pub. L. 101-235, approved December 15, 1989), requires that HUD “publish a description of and the cause for administrative actions against a HUD-approved mortgage” by the Department's Mortgage Review Board. In compliance with the requirements of Section 202(c)(5), notice is hereby given of a clarification of a previously published description and cause for an administrative action against a HUD-approved mortgagee. The specific mortgagee that is the subject of this clarification is James B. Nutter & Company, Kansas City, Missouri, pursuant to an administrative action originally reported at 65 FR 53734 (#44) published on September 5, 2000. The clarification regarding the administrative action taken against this mortgagee is noted below:

1. James B. Nutter & Company, Kansas City, Missouri.

Action: Proposed settlement agreement of disputed matters that included a payment to the Department.

Cause: A review by HUD's Quality Assurance Division discovered alleged failures to comply with HUD/FHA Loss Mitigation and other HUD/FHA requirements.

Dated: January 10, 2001.
William C. Apgar,
Assistant Secretary for Housing-Federal Housing Commissioner, Chairman, Mortgagee Review Board.

[FR Doc. 01-1538 Filed 1-17-01; 8:45 am]

BILLING CODE 4210-27-M